SMALL BUSINESS ADMINISTRATION

[Declaration of Disaster #3428]

State of Texas; (Amendment #2); Disaster Loan Areas

In accordance with notices received from the Federal Emergency Management Agency, dated July 6 and July 8, 2002, the above numbered declaration is hereby amended to include Atascosa, Brown, Caldwell, Eastland, Frio, Goliad, Gonzales, Guadalupe, Karnes, La Salle, Real, Taylor, Travis and Wilson Counties in the State of Texas as disaster areas due to damages caused by severe storms and flooding occurring on June 29, 2002 and continuing.

In addition, applications for economic injury loans from small businesses located in the following contiguous counties may be filed until the specified date at the previously designated location: Bastrop, Bee, Callahan, Coleman, Comanche, De Witt, Dimmit, Duval, Erath, Fayette, Fisher, Jones, Lavaca, Live Oak, McCulloch, McMullen, Mills, Nolan, Palo Pinto, Refugio, Runnels, San Saba, Shackleford, Stephens, Victoria, Webb and Williamson Counties in Texas. All other counties contiguous to the above named primary counties have been previously declared.

All other information remains the same, i.e., the deadline for filing applications for physical damage is September 2, 2002, and for economic injury the deadline is April 4, 2003.

(Catalog of Federal Domestic Assistance Program Nos. 59002 and 59008)
Dated: July 9, 2002.
Becky C. Brantley,
Acting Associate Administrator for Disaster Assistance.

[FR Doc. 02-18157 Filed 7-17-02; 8:45 am]

BILLING CODE 8025-01-P